DEPARTMENT OF AGRICULTURE

Natural Resources Conservation Service

Notice of Proposed Changes to the National Handbook of Conservation Practices for the Natural Resources Conservation Service

AGENCY: Natural Resources Conservation Service (NRCS), USDA.

ACTION: Notice of availability of proposed changes in the NRCS National Handbook of Conservation Practices for public review and comment.

SUMMARY: Notice is hereby given of the intention of NRCS to issue a series of revised conservation practice standards in the National Handbook of Conservation Practices. These standards include: Aquatic Organism Passage (Code 396), Bivalve Aquaculture Waste Control (Code 400), Cross Wind Trap Strips (Code 589c), Irrigation Field Ditch (Code 388), Nutrient Management (Code 590), and Waste Facility Closure (Code 360).

NRCS State Conservationists who choose to adopt these practices for use within their States will incorporate them into section IV of their respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

DATES: Effective Date: This is effective January 11, 2011.

Comment Date: Submit comments on or before February 25, 2011. Final versions of these new or revised conservation practice standards will be adopted after the close of the 45-day period, and after consideration of all comments.

ADDRESSES: Comments should be submitted using any of the following methods:

• Mail: Wayne Bogovich, National Agricultural Engineer, Conservation Engineering Division, Department of Agriculture, Natural Resources Conservation Service, 1400 Independence Avenue, SW., Room 6136 South Building, Washington, DC 20250.

• E-mail: wayne.bogovich@wdc.usda.gov.

FOR FURTHER INFORMATION CONTACT: Wayne Bogovich, National Agricultural Engineer, Conservation Engineering Division, Department of Agriculture, Natural Resources Conservation Service, 1400 Independence Avenue, SW., Room 6136 South Building, Washington, DC 20250.

Electronic copies of these standards can be downloaded or printed from the following Web site: ftp://ftp-fc.sc.egov.usda.gov/NHQ/practice-standards/federal-register/. Requests for paper versions or inquiries may be directed to Wayne Bogovich, National Agricultural Engineer, Conservation Engineering Division, Department of Agriculture, Natural Resources Conservation Service, 1400 Independence Avenue, SW., Room 6136 South Building, Washington, DC 20250.

SUPPLEMENTARY INFORMATION: The amount of the proposed changes varies considerably for each of the Conservation Practice Standards addressed in this notice. To fully understand the proposed changes, individuals are encouraged to compare these changes with each standard's current version as shown at: http://www.nrcs.usda.gov/technical/Standards/nhcp.html. To aid in this comparison, following are highlights of the proposed revisions to each standard:

Aquatic Organism Passage (Code 396)—The title was changed from “Fish Passage” to “Aquatic Organism Passage” in an effort to better reflect the full range of passage projects completed under the standard across the United States and its protectorates. Both the Definition and Purpose were modified by removing unnecessary words. Two new Criteria were added. Textual references to additional relevant standards were added, and the references cited section was updated to match material presented in the body of the standard. Minor edits were made to improve the readability and clarity of the standard.

Bivalve Aquaculture Waste Control (Code 400)—This is a new conservation practice standard.

Cross Wind Trap Strips (Code589c)—The purpose to induce deposition and reduce transport of wind-borne sediment and sediment-borne contaminants downwind changed to induce wind-borne sediment deposition. Deleted the purpose to provide food and cover for wildlife. Added two new purposes: Induce snow deposition and improve air quality by reducing the generation of airborne particulate matter. The existing criteria in the standard were reformatted to be listed under the appropriate additional criteria for the intended purpose.

Irrigation Field Ditch (Code 388)—Revised Purpose, adding Improvement of Energy Efficiency; revised Criteria, to remove compliance with Federal, State, and local laws and regulations; revised Criteria, changing reference for maximum design velocity from Technical Release 25 to National Engineering Handbook 654; expanded Considerations; expanded Plans and Specifications; and added References.

Nutrient Management (Code 590)—This standard has been updated to promote enhanced nutrient management planning activities at the State level. The standard delivers the minimum requirements for nutrient planning associated with USDA programs. Focus has been added on erosion control, nutrient use efficiency, adaptive nitrogen management tactics, tile drainage, and better management of the 4Rs of nutrient application (Right source, Right timing, Right amount, and Right placement).

Waste Facility Closure (Code 360)—This standard has been updated to include the remediation of contaminated soil in dry waste storage facilities. The name of the standard has also been changed to reflect the expanded definition of decommissioning dry waste facilities. A more widespread use of this standard is anticipated with the inclusion of dry waste facilities. We do not anticipate controversial issues or problems with these changes, nor do we envision the changes will make it more difficult for the States to implement this standard.

Signed this 5th day of January 2011, in Washington, DC.
Dave White,
Chief, Natural Resources Conservation Service.

[FR Doc. 2011-373 Filed 1-10-11; 8:45 am]

BILLING CODE 3410-16-P